DEPARTMENT OF TRANSPORTATION

Federal Aviation Administration

14 CFR Part 97

[Docket No. 31211; Amdt. No. 3815]

Standard Instrument Approach Procedures, and Takeoff Minimums and Obstacle Departure Procedures; Miscellaneous Amendments

AGENCY: Federal Aviation Administration (FAA), DOT.

ACTION: Final rule.

SUMMARY: This rule establishes, amends, suspends, or removes Standard Instrument Approach Procedures (SIAPs) and associated Takeoff Minimums and Obstacle Departure Procedures (ODPs) for operations at certain airports. These regulatory actions are needed because of the adoption of new or revised criteria, or because of changes occurring in the National Airspace System, such as the commissioning of new navigational facilities, adding new obstacles, or changing air traffic requirements. These changes are designed to provide safe and efficient use of the navigable airspace and to promote safe flight operations under instrument flight rules at the affected airports.

DATES: This rule is effective September 11, 2018. The compliance date for each SIAP, associated Takeoff Minimums, and ODP is specified in the amendatory provisions.

The incorporation by reference of certain publications listed in the regulations is approved by the Director of the Federal Register as of September 11, 2018.

ADDRESSES: Availability of matters incorporated by reference in the amendment is as follows:

For Examination

1. U.S. Department of Transportation, Docket Ops-M30, 1200 New Jersey Avenue SE, West Bldg., Ground Floor, Washington, DC 20590-0001.

2. The FAA Air Traffic Organization Service Area in which the affected airport is located;

3. The office of Aeronautical Navigation Products, 6500 South MacArthur Blvd., Oklahoma City, OK 73169, or

4. The National Archives and Records Administration (NARA). For information on the availability of this material at NARA, call 202-741-6030, or go to: http://www.archives.gov/federal_register/code_of_federal_regulations/ibr_locations.html.

Availability

All SIAPs and Takeoff Minimums and ODPs are available online free of charge. Visit the National Flight Data Center at nfdc.faa.gov to register. Additionally, individual SIAP and Takeoff Minimums and ODP copies may be obtained from the FAA Air Traffic Organization Service Area in which the affected airport is located.

FOR FURTHER INFORMATION CONTACT: Thomas J. Nichols, Flight Procedure Standards Branch (AFS-420), Flight Technologies and Programs Divisions, Flight Standards Service, Federal Aviation Administration, Mike Monroney Aeronautical Center, 6500 South MacArthur Blvd., Oklahoma City, OK, 73169 (Mail Address: P.O. Box 25082, Oklahoma City, OK 73125) Telephone: (405) 954-4164.

SUPPLEMENTARY INFORMATION: This rule amends Title 14 of the Code of Federal Regulations, Part 97 (14 CFR part 97), by establishing, amending, suspending, or removes SIAPS, Takeoff Minimums and/or ODPS. The complete regulatory description of each SIAP and its associated Takeoff Minimums or ODP for an identified airport is listed on FAA form documents which are incorporated by reference in this amendment under 5 U.S.C. 552(a), 1 CFR part 51, and 14 CFR part 97.20. The applicable FAA forms are FAA Forms 8260-3, 8260-4, 8260-5, 8260-15A, and 8260-15B when required by an entry on 8260-15A.

The large number of SIAPs, Takeoff Minimums and ODPs, their complex nature, and the need for a special format make publication in the Federal Register expensive and impractical. Further, airmen do not use the regulatory text of the SIAPs, Takeoff Minimums or ODPs, but instead refer to their graphic depiction on charts printed by publishers of aeronautical materials. Thus, the advantages of incorporation by reference are realized and publication of the complete description of each SIAP, Takeoff Minimums and ODP listed on FAA form documents is unnecessary. This amendment provides the affected CFR sections and specifies the types of SIAPs, Takeoff Minimums and ODPs with their applicable effective dates. This amendment also identifies the airport and its location, the procedure, and the amendment number.

Availability and Summary of Material Incorporated by Reference

The material incorporated by reference is publicly available as listed in the ADDRESSES section.

The material incorporated by reference describes SIAPS, Takeoff Minimums and/or ODPS as identified in the amendatory language for part 97 of this final rule.

The Rule

This amendment to 14 CFR part 97 is effective upon publication of each separate SIAP, Takeoff Minimums and ODP as Amended in the transmittal. Some SIAP and Takeoff Minimums and textual ODP amendments may have been issued previously by the FAA in a Flight Data Center (FDC) Notice to Airmen (NOTAM) as an emergency action of immediate flight safety relating directly to published aeronautical charts.

The circumstances that created the need for some SIAP and Takeoff Minimums and ODP amendments may require making them effective in less than 30 days. For the remaining SIAPs and Takeoff Minimums and ODPs, an effective date at least 30 days after publication is provided.

Further, the SIAPs and Takeoff Minimums and ODPs contained in this amendment are based on the criteria contained in the U.S. Standard for Terminal Instrument Procedures (TERPS). In developing these SIAPs and Takeoff Minimums and ODPs, the TERPS criteria were applied to the conditions existing or anticipated at the affected airports. Because of the close and immediate relationship between these SIAPs, Takeoff Minimums and ODPs, and safety in air commerce, I find that notice and public procedure under 5 U.S.C. 553(b) are impracticable and contrary to the public interest and, where applicable, under 5 U.S.C. 553(d), good cause exists for making some SIAPs effective in less than 30 days.

The FAA has determined that this regulation only involves an established body of technical regulations for which frequent and routine amendments are necessary to keep them operationally current. It, therefore—(1) is not a “significant regulatory action” under Executive Order 12866;(2) is not a “significant rule” under DOT Regulatory Policies and Procedures (44 FR 11034; February 26,1979); and (3)does not warrant preparation of a regulatory evaluation as the anticipated impact is so minimal. For the same reason, the FAA certifies that this amendment will not have a significant economic impact on a substantial number of small entities under the criteria of the Regulatory Flexibility Act.

List of Subjects in 14 CFR Part 97

Air traffic control, Airports, Incorporation by reference, Navigation (air).

Issued in Washington, DC, on August 24, 2018.
Rick Domingo,
Executive Director, Flight Standards Service.

Adoption of the Amendment

Accordingly, pursuant to the authority delegated to me, Title 14, Code of Federal Regulations, Part 97 (14 CFR part 97) is amended by establishing, amending, suspending, or removing Standard Instrument Approach Procedures and/or Takeoff Minimums and Obstacle Departure Procedures effective at 0901 UTC on the dates specified, as follows:

PART 97—STANDARD INSTRUMENT APPROACH PROCEDURES

1. The authority citation for part 97 continues to read as follows:

Authority: 49 U.S.C. 106(f), 106(g), 40103, 40106, 40113, 40114, 40120, 44502, 44514, 44701, 44719, 44721-44722.

2. Part 97 is amended to read as follows:

Effective 11 October 2018

Litchfield, IL, Litchfield Muni, Takeoff Minimums and Obstacle DP, Amdt 3A

Winamac, IN, Arens Field, Takeoff Minimums and Obstacle DP, Orig-A

Beloit, KS, Moritz Memorial, RNAV (GPS) RWY 17, Amdt 1

Beloit, KS, Moritz Memorial, RNAV (GPS) RWY 35, Orig-A

Beloit, KS, Moritz Memorial, Takeoff Minimums and Obstacle DP, Amdt 1A

Beloit, KS, Moritz Memorial, VOR RWY 17, Amdt 5

Topeka, KS, Philip Billard Muni, RNAV (GPS) RWY 18, Amdt 2B

Topeka, KS, Philip Billard Muni, RNAV (GPS) RWY 36, Amdt 1B

Harbor Springs, MI, Harbor Springs, Takeoff Minimums and Obstacle DP, Amdt 3

St. Ignace, MI, Mackinac County, RNAV (GPS) RWY 25, Orig-B

Raleigh/Durham, NC, Raleigh-Durham Intl, ILS OR LOC RWY 5R, Amdt 29A

Raleigh/Durham, NC, Raleigh-Durham Intl, ILS OR LOC RWY 23L, Amdt 9A

Oklahoma City, OK, Sundance, VOR RWY 18, Amdt 1F

Johnstown, PA, John Murtha Johnstown-Cambria Co, Takeoff Minimums and Obstacle DP, Amdt 4A

Lampasas, TX, Lampasas, RNAV (GPS) RWY 34, Orig-A

Sulphur Springs, TX, Sulphur Springs Muni, RNAV (GPS) RWY 19, Orig-B

Hayward, WI, Sawyer County, ILS OR LOC RWY 21, Orig-A

Effective 8 November 2018

Brevig Mission, AK, Brevig Mission, BREVIG TWO, Graphic DP

Brevig Mission, AK, Brevig Mission, Takeoff Minimums and Obstacle DP, Orig-A

Kodiak, AK, Kodiak, RNAV (GPS) RWY 26, Amdt 3

Bay Minette, AL, Bay Minette Muni, RNAV (GPS) RWY 8, Amdt 1B

Oneonta, AL, Robbins Field, RNAV (GPS) RWY 6, Orig-C

Oneonta, AL, Robbins Field, RNAV (GPS) RWY 24, Orig-A

Oneonta, AL, Robbins Field, Takeoff Minimums and Obstacle DP, Orig-B

Nogales, AZ, Nogales Intl, Takeoff Minimums and Obstacle DP, Amdt 3

San Diego, CA, Montgomery—Gibbs Executive, Takeoff Minimums and Obstacle DP, Amdt 4A

San Francisco, CA, San Francisco Intl, RNAV (GPS) RWY 19L, Amdt 3A

Tracy, CA, Tracy Muni, RNAV (GPS) RWY 26, Amdt 1B

Canon City, CO, Fremont County, Takeoff Minimums and Obstacle DP, Amdt 3

Georgetown, DE, Delaware Coastal, VOR RWY 4, Orig

Boca Raton, FL, Boca Raton, RNAV (GPS) Y RWY 23, Amdt 1C

Atlanta, GA, Newnan Coweta County, RNAV (GPS) RWY 14, Amdt 1A

Atlanta, GA, Newnan Coweta County, RNAV (GPS) RWY 32, Amdt 2A

Atlanta, GA, Newnan Coweta County, VOR-A, Amdt 8A

Milledgeville, GA, Baldwin County Rgnl, NDB RWY 28, Amdt 4A

Milledgeville, GA, Baldwin County Rgnl, RNAV (GPS) RWY 10, Amdt 2A

Milledgeville, GA, Baldwin County Rgnl, RNAV (GPS) RWY 28, Amdt 2A

Milledgeville, GA, Baldwin County Rgnl, Takeoff Minimums and Obstacle DP, Amdt 1A

Honolulu, HI, Daniel K Inouye Intl, HONOLULU TWO, Graphic DP

Honolulu, HI, Daniel K Inouye Intl, Takeoff Minimums and Obstacle DP, Amdt 8B

Chicago/West Chicago, IL, DuPage, RNAV (GPS) RWY 20R, Amdt 1F

Chicago/West Chicago, IL, DuPage, Takeoff Minimums and Obstacle DP, Amdt 1B

Indianapolis, IN, Hendricks County-Gordon Graham Fld, RNAV (GPS) RWY 18, Amdt 1C

Terre Haute, IN, Terre Haute Rgnl, ILS OR LOC RWY 5, Amdt 23C

Terre Haute, IN, Terre Haute Rgnl, LOC BC RWY 23, Amdt 19D

Terre Haute, IN, Terre Haute Rgnl, RADAR 1, Amdt 5B

Terre Haute, IN, Terre Haute Rgnl, RNAV (GPS) RWY 5, Orig-E

Terre Haute, IN, Terre Haute Rgnl, RNAV (GPS) RWY 14, Orig-D

Terre Haute, IN, Terre Haute Rgnl, RNAV (GPS) RWY 23, Amdt 1D

Terre Haute, IN, Terre Haute Rgnl, RNAV (GPS) RWY 32, Orig-D

Terre Haute, IN, Terre Haute Rgnl, VOR RWY 5, Amdt 18

Terre Haute, IN, Terre Haute Rgnl, VOR RWY 23, Amdt 21

Kingman, KS, Kingman Airport—Clyde Cessna Field, RNAV (GPS) RWY 18, Amdt 1

Kingman, KS, Kingman Airport—Clyde Cessna Field, RNAV (GPS) RWY 36, Amdt 1

Lyons, KS, Lyons-Rice County Muni, RNAV (GPS) RWY 17, Orig-A

Lyons, KS, Lyons-Rice County Muni, RNAV (GPS) RWY 35, Orig-A

Lyons, KS, Lyons-Rice County Muni, Takeoff Minimums and Obstacle DP, Orig-A

Lyons, KS, Lyons-Rice County Muni, VOR-A, Amdt 4B

Campbellsville, KY, Taylor County, Takeoff Minimums and Obstacle DP, Orig-A

Somerset, KY, Lake Cumberland Rgnl, RNAV (GPS) RWY 5, Orig

Somerset, KY, Lake Cumberland Rgnl, RNAV (GPS) RWY 23, Amdt 2

Somerset, KY, Lake Cumberland Rgnl, RNAV (GPS) Y RWY 5, Amdt 3A, CANCELED

Somerset, KY, Lake Cumberland Rgnl, RNAV (GPS) Z RWY 5, Amdt 1A, CANCELED

De Ridder, LA, Beauregard Rgnl, Takeoff Minimums and Obstacle DP, Amdt 5

Belfast, ME, Belfast Muni, NDB RWY 15, Amdt 4, CANCELED

Presque Isle, ME, Northern Maine Rgnl Arpt at Presque IS, Takeoff Minimums and Obstacle DP, Amdt 5

Charlevoix, MI, Charlevoix Muni, RNAV (GPS) RWY 27, Orig-B

Fremont, MI, Fremont Muni, RNAV (GPS) RWY 1, Amdt 1C

Fremont, MI, Fremont Muni, RNAV (GPS) RWY 19, Amdt 1D

Fremont, MI, Fremont Muni, Takeoff Minimums and Obstacle DP, Orig-A

Ironwood, MI, Gogebic-Iron County, ILS OR LOC RWY 27, Amdt 3B

Ironwood, MI, Gogebic-Iron County, VOR RWY 9, Amdt 13A

Ludington, MI, Mason County, RNAV (GPS) RWY 8, Orig-D

Ludington, MI, Mason County, RNAV (GPS) RWY 26, Orig-A

Traverse City, MI, Cherry Capital, RNAV (GPS) RWY 10, Amdt 3

Princeton, MN, Princeton Muni, RNAV (GPS) RWY 15, Orig-C

Princeton, MN, Princeton Muni, RNAV (GPS) RWY 33, Orig-B

Cabool, MO, Cabool Memorial, Takeoff Minimums and Obstacle DP, Amdt 3

Lamar, MO, Lamar Muni, RNAV (GPS) RWY 35, Orig-B

Holly Springs, MS, Holly Springs-Marshall County, RNAV (GPS) RWY 18, Orig-A

Fayetteville, NC, Fayetteville Rgnl/Grannis Field, LOC BC RWY 22, Amdt 8B

Fayetteville, NC, Fayetteville Rgnl/Grannis Field, RNAV (GPS) RWY 4, Amdt 3C

Fayetteville, NC, Fayetteville Rgnl/Grannis Field, RNAV (GPS) RWY 10, Orig-B

Fayetteville, NC, Fayetteville Rgnl/Grannis Field, RNAV (GPS) RWY 22, Amdt 6

Fayetteville, NC, Fayetteville Rgnl/Grannis Field, RNAV (GPS) RWY 28, Orig-A

Fayetteville, NC, Fayetteville Rgnl/Grannis Field, VOR RWY 4, Amdt 16B

Fayetteville, NC, Fayetteville Rgnl/Grannis Field, VOR RWY 22, Amdt 7B

Fayetteville, NC, Fayetteville Rgnl/Grannis Field, VOR RWY 28, Amdt 8B

Louisburg, NC, Triangle North Executive, VOR-A, Amdt 2D

Mount Airy, NC, Mount Airy/Surry County, Takeoff Minimums and Obstacle DP, Amdt 4

Raleigh/Durham, NC, Raleigh-Durham Intl, RNAV (GPS) Y RWY 5R, Amdt 3A

Casselton, ND, Casselton Robert Miller Rgnl, RNAV (GPS) RWY 13, Amdt 1A

Hettinger, ND, Hettinger Muni, Takeoff Minimums and Obstacle DP, Amdt 3

Stanley, ND, Stanley Muni, RNAV (GPS) RWY 27, Amdt 1

Williston, ND, Sloulin Fld Intl, ILS OR LOC RWY 29, Amdt 4B

Scottsbluff, NE, Western Nebraska Rgnl/William B Heilig Field, ILS OR LOC RWY 30, Amdt 11

Manville, NJ, Central Jersey Rgnl, RNAV (GPS) RWY 25, Amdt 2

Battle Mountain, NV, Battle Mountain, RNAV (GPS) RWY 4, Amdt 1

Battle Mountain, NV, Battle Mountain, RNAV (GPS) RWY 22, Orig

Battle Mountain, NV, Battle Mountain, Takeoff Minimums and Obstacle DP, Amdt 4

Battle Mountain, NV, Battle Mountain, VOR RWY 4, Amdt 7

Penn Yan, NY, Penn Yan, Takeoff Minimums and Obstacle DP, Amdt 5

Stormville, NY, Stormville, Takeoff Minimums and Obstacle DP, Orig, CANCELED

Stormville, NY, Stormville, VOR OR GPS-A, Amdt 4A, CANCELED

Dayton, OH, Greene County-Lewis A. Jackson Rgnl, VOR RWY 7, Orig-A, CANCELED

Dayton, OH, Greene County-Lewis A. Jackson Rgnl, VOR RWY 25, Orig-A, CANCELED

Boise City, OK, Boise City, RNAV (GPS) RWY 4, Orig-A

Hobart, OK, Hobart Rgnl, Takeoff Minimums and Obstacle DP, Amdt 1A

Barnwell, SC, Barnwell Rgnl, RNAV (GPS) RWY 17, Amdt 2A

Summerville, SC, Summerville, RNAV (GPS) RWY 6, Amdt 1A

Cleveland, TN, Cleveland Rgnl Jetport, RNAV (GPS) RWY 3, Amdt 2

Cleveland, TN, Cleveland Rgnl Jetport, RNAV (GPS) RWY 21, Amdt 2

Cleveland, TN, Cleveland Rgnl Jetport, Takeoff Minimums and Obstacle DP, Amdt 2

Winchester, TN, Winchester Muni, NDB RWY 18, Amdt 6B, CANCELED

Dallas-Fort Worth, TX, Dallas-Fort Worth Intl, ILS OR LOC RWY 31R, ILS RWY 31R (SA CAT I), ILS RWY 31R (SA CAT II), Amdt 15

Dallas-Fort Worth, TX, Dallas-Fort Worth Intl, RNAV (GPS) Y RWY 31R, Amdt 3

Dallas, TX, Dallas Executive, Takeoff Minimums and Obstacle DP, Amdt 8

Robstown, TX, Nueces County, RNAV (GPS) RWY 13, Amdt 1A

Manti, UT, Manti-Ephraim, RNAV (GPS) RWY 3, Orig-A

Salt Lake City, UT, Salt Lake City Intl, ILS OR LOC RWY 16R, ILS RWY 16R SA CAT I, ILS RWY 16R CAT II, ILS RWY 16R CAT III, Amdt 3E

Salt Lake City, UT, Salt Lake City Intl, ILS OR LOC RWY 34L, ILS RWY 34L SA CAT I, ILS RWY 34L CAT II, ILS RWY 34L CAT III, Amdt 3D

Beloit, WI, Beloit, VOR-A, Amdt 5C

Eagle River, WI, Eagle River Union, RNAV (GPS) RWY 22, Orig-B

Fort Atkinson, WI, Fort Atkinson Muni, RNAV (GPS) RWY 3, Amdt 1

Fort Atkinson, WI, Fort Atkinson Muni, RNAV (GPS) RWY 21, Amdt 1

La Pointe, WI, Major Gilbert Field, RNAV (GPS) RWY 4, Orig-B

La Pointe, WI, Major Gilbert Field, RNAV (GPS) RWY 22, Orig-C

Minocqua-Woodruff, WI, Lakeland/Noble F. Lee Memorial Field, LOC RWY 36, Amdt 1A, CANCELED

Rock Springs, WY, Southwest Wyoming Rgnl, ILS OR LOC RWY 27, Amdt 2A

Rock Springs, WY, Southwest Wyoming Rgnl, RNAV (GPS) RWY 9, Orig-B

Rock Springs, WY, Southwest Wyoming Rgnl, RNAV (GPS) RWY 27, Amdt 1C

Rock Springs, WY, Southwest Wyoming Rgnl, Takeoff Minimums and Obstacle DP, Amdt 6A

Rock Springs, WY, Southwest Wyoming Rgnl, VOR RWY 9, Amdt 3A

RESCINDED: On August 17, 2018 (83 FR 40971), the FAA published an Amendment in Docket No. 31206, Amdt No. 3811, to Part 97 of the Federal Aviation Regulations under section 97.33. The following entries for Idabel, OK, effective September 13, 2018, are hereby rescinded in their entirety:

Idabel, OK, Mc Curtain County Rgnl, RNAV (GPS) RWY 2, Amdt 1

Idabel, OK, Mc Curtain County Rgnl, RNAV (GPS) RWY 20, Amdt 1

[FR Doc. 2018-18879 Filed 9-10-18; 8:45 am]

BILLING CODE 4910-13-P